DEPARTMENT OF LABOR

Employment and Training Administration

Workforce Information Advisory Council (WIAC)

AGENCY: Employment and Training Administration, Labor.

ACTION: Notice of virtual meeting.

SUMMARY: Notice is hereby given that the Workforce Information Advisory Council (WIAC) will meet February 8, 2017, at 2:00 p.m. Eastern Standard Time (EST). The meeting will take place virtually at http://coffey.adobeconnect.com/wiac080217/ or call 866-530-3818 and use conference code 2956449540. The meeting will be open to the public.

DATES: The meeting will take place on Wednesday, February 8, 2017 at 2:00 p.m. EST and conclude no later than 5:00 p.m. EST. Public statements and requests for special accommodations or to address the Advisory Council must be received by February 1, 2017.

ADDRESSES: The meeting will be held virtually at http://coffey.adobeconnect.com/wiac080217/ or call 866-530-3818 and use conference code 2956449540. If problems arise accessing the meeting, please call 301-907-0900 ext. 225.

FOR FURTHER INFORMATION CONTACT: Steven Rietzke, Chief, Division of National Programs, Tools, and Technical Assistance, Employment and Training Administration, U.S. Department of Labor, Room C-4510, 200 Constitution Ave. NW., Washington, DC 20210; Telephone: 202-693-3912. Mr. Rietzke is the Designated Federal Officer for the WIAC.

SUPPLEMENTARY INFORMATION:

Background: The WIAC is an important component of the Workforce Innovation and Opportunity Act. The WIAC is a Federal Advisory Committee of workforce and labor market information experts representing a broad range of national, State, and local data and information users and producers. The purpose of the WIAC is to provide recommendations to the Secretary of Labor, working jointly through the Assistant Secretary for Employment and Training and the Commissioner of Labor Statistics, to address: (1) The evaluation and improvement of the nationwide workforce and labor market information (WLMI) system and statewide systems that comprise the nationwide system; and (2) how the Department and the States will cooperate in the management of those systems. These systems include programs to produce employment- related statistics and State and local workforce and labor market information. The WIAC was established in accordance with provisions of the Federal Advisory Committee Act (FACA), as amended (5 U.S.C. App.) and will act in accordance with the applicable provisions of FACA and its implementing regulation at 41 CFR 102-3. The WIAC is meeting pursuant to Section 308 of the Workforce Innovation and Opportunity Act of 2014 (WIOA) (Pub. L. 113-128), which amends section 15 of the Wagner-Peyser Act of 1933 (29 U.S.C. 491-2).

The Department of Labor anticipates the WIAC will accomplish its objectives by: (1) Studying workforce and labor market information issues; (2) seeking and sharing information on innovative approaches, new technologies, and data to inform employment, skills training, and workforce and economic development decision making and policy; and (3) advising the Secretary on how the workforce and labor market information system can best support workforce development, planning, and program development. Additional information is available at www.doleta.gov/wioa/wiac/.

Purpose: The WIAC is currently in the process of identifying and reviewing issues and aspects of the WLMI system and statewide systems that comprise the nationwide system and how the Department and the States will cooperate in the management of those systems. As part of this process, the Advisory Council meets to gather information and to engage in deliberative and planning activities to facilitate the development and provision of its recommendations to the Secretary in a timely manner.

Agenda: Beginning at 2:00 p.m. on February 8, 2017, the Advisory Council will briefly review the minutes of the previous meeting held January 11, 2017. The Advisory Council will then discuss the informational report it is creating to document the current status of the WLMI systems from a national and state perspective for the Secretary of Labor. The goal of this discussion is the formal approval of the informational report for submission to the Secretary of Labor.

The Advisory Council will open the floor for public comment once the discussion of the informational report is completed, which is expected to be 3:00 p.m. EST; however, that time may change at the WIAC chair's discretion. Once the informational report discussion, the public comment period, and discussion of next steps and new business has concluded, the meeting will adjourn. The WIAC does not anticipate the meeting lasting past 5:00 p.m. EST.

The full agenda for the meeting, and changes or updates to the agenda, will be posted on the WIAC's Web page, www.doleta.gov/wioa/wiac/.

Attending the meeting: Members of the public who require reasonable accommodations to attend the meeting may submit requests for accommodations by mailing them to the person and address indicated in the FOR FURTHER INFORMATION CONTACT section by the date indicated in the DATES section or transmitting them as email attachments in PDF format to the email address indicated in the FOR FURTHER INFORMATION CONTACT section with the subject line “February 2017 WIAC Meeting Accommodations” by the date indicated in the DATES section. Please include a specific description of the accommodations requested and phone number or email address where you may be contacted if additional information is needed to meet your request.

Public statements: Organizations or members of the public wishing to submit written statements may do so by mailing them to the person and address indicated in the FOR FURTHER INFORMATION CONTACT section by the date indicated in the DATES section or transmitting them as email attachments in PDF format to the email address indicated in the FOR FURTHER INFORMATION CONTACT section with the subject line “February 2017 WIAC Meeting Public Statements” by the date indicated in the DATES section. Submitters may include their name and contact information in a cover letter for mailed statements or in the body of the email for statements transmitted electronically. Relevant statements received before the date indicated in the DATES section will be included in the record of the meeting. No deletions, modifications, or redactions will be made to statements received, as they are public records. Please do not include personally identifiable information (PII) in your public statement.

Requests to Address the Advisory Council: Members of the public or representatives of organizations wishing to address the Advisory Council should forward their requests to the contact indicated in the FOR FURTHER INFORMATION CONTACT section, or contact the same by phone, by the date indicated in the DATES section. Oral presentations will be limited to 10 minutes, time permitting, and shall proceed at the discretion of the Council chair. Individuals with disabilities, or others, who need special accommodations, should indicate their needs along with their request.

Portia Wu,
Assistant Secretary for Employment and Training Administration.

[FR Doc. 2016-31137 Filed 12-23-16; 8:45 am]

BILLING CODE 4510-FN-P